Title 3—

The President

Executive Order 13286 of February 28, 2003

Amendment of Executive Orders, and Other Actions, in Connection With the Transfer of Certain Functions to the Secretary of Homeland Security

By the authority vested in me as President by the Constitution and the laws of the United States of America, including the Homeland Security Act of 2002 (Public Law 107-296) and section 301 of title 3, United States Code, and in order to reflect the transfer of certain functions to, and other responsibilities vested in, the Secretary of Homeland Security, the transfer of certain agencies and agency components to the Department of Homeland Security, and the delegation of appropriate responsibilities to the Secretary of Homeland Security, it is hereby ordered as follows:

Section 1. Executive Order 13276 of November 15, 2002 (“Delegation of Responsibilities Concerning Undocumented Aliens Interdicted or Intercepted in the Caribbean Region”), is amended by:

(a) striking “The Attorney General” wherever it appears in section 1 and inserting “The Secretary of Homeland Security” in lieu thereof; and

(b) striking “the Attorney General” wherever it appears in section 1 and inserting “the Secretary of Homeland Security” in lieu thereof.

Sec. 2. Executive Order 13274 of September 18, 2002 (“Environmental Stewardship and Transportation Infrastructure Project Reviews”), is amended by inserting “Secretary of Homeland Security,” after “Secretary of Defense,” in section 3(b).

Sec. 3. Executive Order 13271 of July 9, 2002 (“Establishment of the Corporate Fraud Task Force”), is amended by:

(a) inserting “(b) the Secretary of Homeland Security;” after “(a) the Secretary of the Treasury;” in section 4; and

(b) relettering the subsequent subsections in section 4 appropriately.

Sec. 4. Executive Order 13260 of March 19, 2002 (“Establishing the President's Homeland Security Advisory Council and Senior Advisory Committees for Homeland Security”), is amended by:

(a) striking “the Assistant to the President for Homeland Security (Assistant)” in section 1(c) and inserting “the Secretary of Homeland Security (Secretary)” in lieu thereof;

(b) striking “the Assistant” wherever it appears in sections 2 and 3 and inserting “the Secretary” in lieu thereof;

(c) striking “the Office of Administration” in section 3(d) and inserting “the Department of Homeland Security” in lieu thereof;

(d) striking “the Administrator of General Services” in section 4(a) and inserting “the Secretary of Homeland Security” in lieu thereof; and

(e) inserting “of General Services” after “Administrator” in section 4(a).

Executive Order 13260 of March 19, 2002, is hereby revoked effective as of March 31, 2003.

Sec. 5. Executive Order 13257 of February 13, 2002 (“President's Interagency Task Force to Monitor and Combat Trafficking in Persons”), is amended by:

(a) inserting “(v) the Secretary of Homeland Security;” after “(iv) the Secretary of Health and Human Services;” in section 1(b); and

(b) renumbering the subsequent subsections in section 1(b) appropriately.

Sec. 6. Executive Order 13254 of January 29, 2002 (“Establishing the USA Freedom Corps”), is amended by striking “Director of the Federal Emergency Management Agency;” in section 3(b)(viii) and inserting “Secretary of Homeland Security;” in lieu thereof.

Sec. 7. Executive Order 13231 of October 16, 2001 (“Critical Infrastructure Protection in the Information Age”), as amended, is further amended to read in its entirety as follows:

“Critical Infrastructure Protection in the Information Age

By the authority vested in me as President by the Constitution and the laws of the United States of America, and in order to ensure protection of information systems for critical infrastructure, including emergency preparedness communications and the physical assets that support such systems, in the information age, it is hereby ordered as follows:

Section 1. Policy. The information technology revolution has changed the way business is transacted, government operates, and national defense is conducted. Those three functions now depend on an interdependent network of critical information infrastructures. It is the policy of the United States to protect against disruption of the operation of information systems for critical infrastructure and thereby help to protect the people, economy, essential human and government services, and national security of the United States, and to ensure that any disruptions that occur are infrequent, of minimal duration, and manageable, and cause the least damage possible. The implementation of this policy shall include a voluntary public-private partnership, involving corporate and nongovernmental organizations.

Sec. 2. Continuing Authorities. This order does not alter the existing authorities or roles of United States Government departments and agencies. Authorities set forth in 44 U.S.C. chapter 35, and other applicable law, provide senior officials with responsibility for the security of Federal Government information systems.

(a) Executive Branch Information Systems Security. The Director of the Office of Management and Budget (OMB) has the responsibility to develop and oversee the implementation of government-wide policies, principles, standards, and guidelines for the security of information systems that support the executive branch departments and agencies, except those noted in section 2(b) of this order. The Director of OMB shall advise the President and the appropriate department or agency head when there is a critical deficiency in the security practices within the purview of this section in an executive branch department or agency.

(b) National Security Information Systems. The Secretary of Defense and the Director of Central Intelligence (DCI) shall have responsibility to oversee, develop, and ensure implementation of policies, principles, standards, and guidelines for the security of information systems that support the operations under their respective control. In consultation with the Assistant to the President for National Security Affairs and the affected departments and agencies, the Secretary of Defense and the DCI shall develop policies, principles, standards, and guidelines for the security of national security information systems that support the operations of other executive branch departments and agencies with national security information.

(i) Policies, principles, standards, and guidelines developed under this subsection may require more stringent protection than those developed in accordance with section 2(a) of this order.

(ii) The Assistant to the President for National Security Affairs shall advise the President and the appropriate department or agency when there is a critical deficiency in the security practices of a department or agency within the purview of this section.

(iii) National Security Systems. The National Security Telecommunications and Information Systems Security Committee, as established by and consistent with NSD-42 and chaired by the Department of Defense, shall be designated as the “Committee on National Security Systems.”

(c) Additional Responsibilities. The heads of executive branch departments and agencies are responsible and accountable for providing and maintaining adequate levels of security for information systems, including emergency preparedness communications systems, for programs under their control. Heads of such departments and agencies shall ensure the development and, within available appropriations, funding of programs that adequately address these mission systems, especially those critical systems that support the national security and other essential government programs. Additionally, security should enable, and not unnecessarily impede, department and agency business operations.

Sec. 3. The National Infrastructure Advisory Council. The National Infrastructure Advisory Council (NIAC), established on October 16, 2001, shall provide the President through the Secretary of Homeland Security with advice on the security of information systems for critical infrastructure supporting other sectors of the economy: banking and finance, transportation, energy, manufacturing, and emergency government services.

(a) Membership. The NIAC shall be composed of not more than 30 members appointed by the President. The members of the NIAC shall be selected from the private sector, academia, and State and local government. Members of the NIAC shall have expertise relevant to the functions of the NIAC and generally shall be selected from industry Chief Executive Officers (and equivalently ranked leaders of other organizations) with responsibilities for security of information infrastructure supporting the critical sectors of the economy, including banking and finance, transportation, energy, communications, and emergency government services. Members shall not be full-time officials or employees of the executive branch of the Federal Government. The President shall designate a Chair and Vice Chair from among the members of the NIAC.

(b) Functions of the NIAC. The NIAC will meet periodically to:

(i) enhance the partnership of the public and private sectors in protecting information systems for critical infrastructures and provide reports on this issue to the Secretary of Homeland Security, as appropriate;

(ii) propose and develop ways to encourage private industry to perform periodic risk assessments of critical information and telecommunications systems;

(iii) monitor the development of private sector Information Sharing and Analysis Centers (ISACs) and provide recommendations to the President through the Secretary of Homeland Security on how these organizations can best foster improved cooperation among the ISACs, the Department of Homeland Security, and other Federal Government entities;

(iv) report to the President through the Secretary of Homeland Security, who shall ensure appropriate coordination with the Assistant to the President for Homeland Security, the Assistant to the President for Economic Policy, and the Assistant to the President for National Security Affairs under the terms of this order; and

(v) advise lead agencies with critical infrastructure responsibilities, sector coordinators, the Department of Homeland Security, and the ISACs.

(c) Administration of the NIAC.

(i) The NIAC may hold hearings, conduct inquiries, and establish subcommittees, as appropriate.

(ii) Upon request of the Chair, and to the extent permitted by law, the heads of the executive departments and agencies shall provide the NIAC with information and advice relating to its functions.

(iii) Senior Federal Government officials may participate in the meetings of the NIAC, as appropriate.

(iv) Members shall serve without compensation for their work on the NIAC. However, members may be reimbursed for travel expenses, including per diem in lieu of subsistence, as authorized by law for persons serving intermittently in Federal Government service (5 U.S.C. 5701-5707).

(v) To the extent permitted by law and subject to the availability of appropriations, the Department of Homeland Security shall provide the NIAC with administrative services, staff, and other support services, and such funds as may be necessary for the performance of the NIAC's functions.

(d) General Provisions.

(i) Insofar as the Federal Advisory Committee Act, as amended (5 U.S.C. App.) (Act), may apply to the NIAC, the functions of the President under that Act, except that of reporting to the Congress, shall be performed by the Department of Homeland Security in accordance with the guidelines and procedures established by the Administrator of General Services.

(ii) The NIAC shall terminate on October 15, 2003, unless extended by the President.

(iii) Executive Order 13130 of July 14, 1999, was revoked on October 16, 2001.

(iv) Nothing in this order shall supersede any requirement made by or under law.

Sec. 4. Judicial Review. This order does not create any right or benefit, substantive or procedural, enforceable at law or in equity, against the United States, its depart ments, agencies, or other entities, its officers or employees, or any other person.”

Sec. 8. Executive Order 13228 of October 8, 2001 (“Establishing the Office of Homeland Security and the Homeland Security Council”), as amended, is further amended by:

(a) amending section 3(g) to read “(g) Incident Management. Consistent with applicable law, including the statutory functions of the Secretary of Homeland Security, the Assistant to the President for Homeland Security shall be the official primarily responsible for advising and assisting the President in the coordination of domestic incident management activities of all departments and agencies in the event of a terrorist threat, and during and in the aftermath of terrorist attacks, major disasters, or other emergencies, within the United States. Generally, the Assistant to the President for Homeland Security shall serve as the principal point of contact for and to the President with respect to the coordination of such activities. The Assistant to the President for Homeland Security shall coordinate with the Assistant to the President for National Security Affairs, as appropriate.”; and

(b) inserting “, including the Department of Homeland Security” after “Government departments and agencies” in section 7.

Sec. 9. Executive Order 13223 of September 14, 2001 (“Ordering the Ready Reserve of the Armed Forces to Active Duty and Delegating Certain Authorities to the Secretary of Defense and the Secretary of Transportation”), as amended, is further amended by:

(a) striking “the Secretary of Transportation” in the title and wherever it appears in sections 1, 5, 6, and 7, and inserting “the Secretary of Homeland Security” in lieu thereof; and

(b) striking “the Department of Transportation” in section 7 and inserting “the Department of Homeland Security” in lieu thereof.

Sec. 10. Executive Order 13212 of May 18, 2001 (“Actions to Expedite Energy-Related Projects”), is amended by inserting “Homeland Security,” after “Veterans Affairs,” in section 3.

Sec. 11. Executive Order 13165 of August 9, 2000 (“Creation of the White House Task Force on Drug Use in Sports and Authorization for the Director of the Office of National Drug Control Policy to Serve as the United States Government's Representative on the Board of the World Anti-Doping Agency”), is amended by inserting “the Department of Homeland Security,” after “the Department of Transportation,” in section 2.

Sec. 12. Executive Order 13154 of May 3, 2000 (“Establishing the Kosovo Campaign Medal”), is amended by striking “the Secretary of Transportation” in section 1 and inserting “the Secretary of Homeland Security” in lieu thereof.

Sec. 13. Executive Order 13133 of August 5, 1999 (“Working Group on Unlawful Conduct on the Internet”), is amended by:

(a) inserting “(6) The Secretary of Homeland Security.” after “(5) The Secretary of Education.” in section 3(a); and

(b) renumbering the subsequent subsections in section 3(a) appropriately.

Sec. 14. Executive Order 13120 of April 27, 1999 (“Ordering the Selected Reserve and Certain Individual Ready Reserve Members of the Armed Forces to Active Duty”), is amended by striking “the Secretary of Transportation” and inserting “the Secretary of Homeland Security” in lieu thereof.

Sec. 15. Executive Order 13112 of February 3, 1999 (“Invasive Species”), is amended by inserting “the Secretary of Homeland Security,” after “Secretary of Transportation,” in section 3(a).

Sec. 16. Executive Order 13100 of August 25, 1998 (“President's Council on Food Safety”), is amended by inserting “and Homeland Security,” after “Health and Human Services,” in section 1(a).

Sec. 17. Executive Order 13076 of February 24, 1998 (“Ordering the Selected Reserve of the Armed Forces to Active Duty”), is amended by striking “the Secretary of Transportation” and inserting “the Secretary of Homeland Security” in lieu thereof.

Sec. 18. Executive Order 13011 of July 16, 1996 (“Federal Information Technology”), as amended, is further amended by:

(a) striking “17. Federal Emergency Management Agency;” in section 3(b); and

(b) renumbering the subsequent subsections in section 3(b) appropriately.

Sec. 19. Executive Order 12989 of February 13, 1996 (“Economy and Efficiency in Government Procurement through Compliance with Certain Immigration and Naturalization Act Provisions”), is amended by:

(a) striking “Naturalization” in the title and inserting “Nationality” in lieu thereof;

(b) striking “, the Attorney General” in section 3;

(c) inserting “the Secretary of Homeland Security” before “may” in section 3(a);

(d) inserting “the Secretary of Homeland Security” before “shall” in section 3(b);

(e) inserting “the Attorney General” before “shall” in section 3(c);

(f) inserting “Secretary of Homeland Security or the” before “Attorney General” wherever it appears in section 4;

(g) striking “The Attorney General's” in section 4(b) and inserting “Such” in lieu thereof;

(h) striking “the Attorney General” wherever it appears in the first two sentences of section 5(a) and inserting “the Secretary of Homeland Security and Attorney General” in lieu thereof;

(i) striking “the responsibilities of the Attorney General” in section 5(a) and inserting “their respective responsibilities” in lieu thereof;

(j) inserting “Secretary of Homeland Security or the” before “Attorney General” wherever in appears in the third sentence of section 5(a);

(k) inserting “Secretary of Homeland Security and the” before “Attorney General” in section 6;

(l) striking “the Attorney General's” in section 6 and inserting “their respective” in lieu thereof; and

(m) inserting “Secretary of Homeland Security, the” before “Attorney General” in section 7.

Sec. 20. Executive Order 12985 of January 11, 1996 (“Establishing the Armed Forces Service Medal”), is amended by striking “the Secretary of Transportation” in section 2 and inserting “the Secretary of Homeland Security” in lieu thereof.

Sec. 21. Executive Order 12982 of December 8, 1995 (“Ordering the Selected Reserve of the Armed Forces to Active Duty”), is amended by striking “the Secretary of Transportation” and inserting “the Secretary of Homeland Security” in lieu thereof.

Sec. 22. Executive Order 12978 of October 21, 1995 (“Blocking Assets and Prohibiting Transactions with Significant Narcotics Traffickers”), is amended by inserting “, the Secretary of Homeland Security,” after “the Attorney General” wherever it appears in sections 1 and 4.

Sec. 23. Executive Order 12977 of October 19, 1995 (“Interagency Security Committee”), is amended by:

(a) striking “the Administrator of General Services (“Administrator”)” in section 1(a) and inserting “the Secretary of Homeland Security (“Secretary”)” in lieu thereof;

(b) striking “and” after “(16) Central Intelligence Agency;” in section 1(b);

(c) inserting “and (18) General Services Administration;” after “(17) Office of Management and Budget;” in section 1(b);

(d) striking section 1(c)(2) and redesignating sections 1(c)(3) and 1(c)(4) as sections 1(c)(2) and 1(c)(3), respectively;

(e) striking “Administrator” wherever it appears in sections 2, 5(a)(3)(E), 6(a), and 6(c), and inserting “Secretary” in lieu thereof; and

(f) striking “, acting by and through the Assistant Commissioner,” in section 6(c).

Sec. 24. Executive Order 12919 of June 3, 1994 (“National Defense Industrial Resources Preparedness”), is amended by:

(a) striking “The Director, Federal Emergency Management Agency (“Director, FEMA”)” in section 104(b) and inserting “The Secretary of Homeland Security (“the Secretary”)” in lieu thereof;

(b) striking “The Director, FEMA,” in sections 201(c) and 601(f) and inserting “The Secretary” in lieu thereof;

(c) striking “the Director, FEMA,” wherever it appears in sections 201(e), 202(c), 305, 501, 701(e), and 802(e), and inserting “the Secretary” in lieu thereof; and

(d) inserting “the Department of Homeland Security,” after “Attorney General,” in section 801.

Sec. 25. Executive Order 12906 of April 11, 1994 (“Coordinating Geographic Data Acquisition and Access: The National Spatial Data Infrastructure”), is amended by:

(a) striking “and” in section 7(b)(ii);

(b) striking the period at the end of section 7(b)(iii) and inserting “; and” in lieu thereof; and

(c) inserting a new section 7(b)(iv) to read “(iv) the national security-related activities of the Department of Homeland Security as determined by the Secretary of Homeland Security.”.

Sec. 26. Executive Order 12870 of September 30, 1993 (“Trade Promotion Coordinating Committee”), is amended by:

(a) inserting “(j) Department of Homeland Security;” after “(i) Department of the Interior;” in section 1; and

(b) relettering the subsequent subsections in section 1 appropriately.

Sec. 27. Executive Order 12835 of January 25, 1993 (“Establishment of the National Economic Council”), is amended by:

(a) inserting “(k) Secretary of Homeland Security;” after “(j) Secretary of Energy;” in section 2; and

(b) relettering the subsequent subsections in section 2 appropriately.

Sec. 28. Executive Order 12830 of January 9, 1993 (“Establishing the Military Outstanding Volunteer Service Medal”), is amended by striking “the Secretary of Transportation” wherever it appears and inserting “the Secretary of Homeland Security” in lieu thereof.

Sec. 29. Executive Order 12824 of December 7, 1992 (“Establishing the Transportation Distinguished Service Medal”), is amended by:

(a) striking “Transportation” in the title and inserting “Homeland Security” in lieu thereof; and

(b) striking “Transportation” wherever it appears and inserting “Homeland Security” in lieu thereof.

Sec. 30. Executive Order 12807 of May 24, 1992 (“Interdiction of Illegal Aliens”), is amended by striking “the Attorney General” in section 2(c)(3) and inserting “the Secretary of Homeland Security” in lieu thereof.

Sec. 31. Executive Order 12793 of March 20, 1992 (“Continuing the Presidential Service Certificate and Presidential Service Badge”), is amended by striking “the Secretary of Transportation” in section 1 and inserting “the Secretary of Homeland Security” in lieu thereof.

Sec. 32. Executive Order 12789 of February 10, 1992 (“Delegation of Reporting Functions Under the Immigration Reform and Control Act of 1986”), is amended by striking “The Attorney General” in section 1 and inserting “The Secretary of Homeland Security” in lieu thereof.

Sec. 33. Executive Order 12788 of January 15, 1992 (“Defense Economic Adjustment Program”), is amended by:

(a) inserting “(15) Secretary of Homeland Security;” after “(14) Secretary of Veterans Affairs;” in section 4(a); and

(b) renumbering the subsequent subsections in section 4(a) appropriately.

Sec. 34. Executive Order 12777 of October 18, 1991 (“Implementation of Section 311 of the Federal Water Pollution Control Act of October 18, 1972, as Amended, and the Oil Pollution Act of 1990”), is amended by:

(a) inserting “and the Secretary of the Department in which the Coast Guard is operating” after “the Secretary of Transportation” in sections 2(b)(2) and 2(d)(2);

(b) striking “the Secretary of Transportation” in section 2(e)(2) and wherever it appears in sections 5 and 8 and inserting “the Secretary of the Department in which the Coast Guard is operating” in lieu thereof; and

(c) inserting “the Secretary of the Department in which the Coast Guard is operating,” after “Agriculture,” in section 10(c).

Sec. 35. Executive Order 12743 of January 18, 1991 (“Ordering the Ready Reserve of the Armed Forces to Active Duty”), is amended by:

(a) striking “the Department of Transportation” in section 1 and inserting “the Department of Homeland Security” in lieu thereof; and

(b) striking “the Secretary of Transportation” in section 1 and inserting “the Secretary of Homeland Security” in lieu thereof.

Sec. 36. Executive Order 12742 of January 8, 1991 (“National Security Industrial Responsiveness”), is amended by:

(a) inserting “Homeland Security,” after “Transportation,” in section 104(a); and

(b) striking “the Director of the Federal Emergency Management Agency” in section 104(d) and inserting “the Secretary of Homeland Security” in lieu thereof.

Sec. 37. Executive Order 12733 of November 13, 1990 (“Authorizing the Extension of the Period of Active Duty of Personnel of the Selected Reserve of the Armed Forces”), is amended by striking “the Secretary of Transportation” and inserting “the Secretary of Homeland Security” in lieu thereof.

Sec. 38. Executive Order 12728 of August 22, 1990 (“Delegating the President's Authority to Suspend any Provision of Law Relating to the Promotion, Retirement, or Separation of Members of the Armed Forces”), is amended by striking “the Secretary of Transportation” in sections 1 and 2 and inserting “the Secretary of Homeland Security” in lieu thereof.

Sec. 39. Executive Order 12727 of August 27, 1990 (“Ordering the Selected Reserve of the Armed Forces to Active Duty”), is amended by striking “the Secretary of Transportation” in section 1 and inserting “the Secretary of Homeland Security” in lieu thereof.

Sec. 40. Executive Order 12699 (“Seismic Safety of Federal and Federally Assisted or Regulated New Building Construction”), is amended by:

(a) striking “Federal Emergency Management Agency (FEMA)” in section 3(d) and inserting “Department of Homeland Security” in lieu thereof;

(b) striking “The Director of the Federal Emergency Management Agency” in section 4(a) and inserting “The Secretary of Homeland Security” in lieu thereof; and

(c) striking “The Federal Emergency Management Agency” and “The FEMA” in section 5 and inserting “The Department of Homeland Security” in lieu thereof (in both places).

Sec. 41. Executive Order 12657 of November 18, 1988 (“Federal Emergency Management Agency Assistance in Emergency Preparedness Planning at Commercial Nuclear Power Plants”), is amended by:

(a) striking “Federal Emergency Management Agency” in the title and inserting “Department of Homeland Security” in lieu thereof;

(b) striking “Federal Emergency Management Agency (“FEMA”)” in section 1(b) and inserting “Department of Homeland Security (“DHS”)” in lieu thereof;

(c) striking “FEMA” wherever it appears in sections 1(b), 2(b), 2(c), 3, 4, 5, and 6, and inserting “DHS” in lieu thereof; and

(d) striking “the Director of FEMA” in section 2(a) and inserting “the Secretary of Homeland Security” in lieu thereof.

Sec. 42. Executive Order 12656 of November 18, 1988 (“Assignment of Emergency Preparedness Responsibilities”), as amended, is further amended by:

(a) striking “The Director of the Federal Emergency Management Agency” wherever it appears in sections 104(c) and 1702 and inserting “The Secretary of Homeland Security” in lieu thereof;

(b) striking “the Director of the Federal Emergency Management Agency” wherever it appears in sections 104(c), 201(15), 301(9), 401(10), 501(4), 501(7), 502(7), 601(3), 701(5), 801(9), 1302(4), 1401(4), 1701, and 1801(b), and inserting “the Secretary of Homeland Security” in lieu thereof;

(c) striking “consistent with current National Security Council guidelines and policies” in section 201(15) and inserting “consistent with current Presidential guidelines and policies” in lieu thereof;

(d) striking “Secretary” in section 501(9) and inserting “Secretaries” in lieu thereof;

(e) inserting “and Homeland Security” after “Labor” in section 501(9);

(f) striking “and” after “State” in section 701(6) and inserting a comma in lieu thereof;

(g) inserting “, and Homeland Security” after “Defense” in section 701(6);

(h) striking “the Director of the Federal Emergency Management Agency,” in section 701(6); and

(i) striking “Federal Emergency Management Agency” in the title of Part 17 and inserting “Department of Homeland Security” in lieu thereof.

Without prejudice to subsections (a) through (i) of this section, all responsibilities assigned to specific Federal officials pursuant to Executive Order 12656 that are substantially the same as any responsibility assigned to, or function transferred to, the Secretary of Homeland Security pursuant to the Homeland Security Act of 2002 (regardless of whether such responsibility or function is expressly required to be carried out through another official of the Department of Homeland Security or not pursuant to such Act), or intended or required to be carried out by an agency or an agency component transferred to the Department of Homeland Security pursuant to such Act, are hereby reassigned to the Secretary of Homeland Security.

Sec. 43. Executive Order 12580 of January 23, 1987 (“Superfund Implementation”), as amended, is further amended by:

(a) inserting “Department of Homeland Security,” after Department of Energy,” in section 1(a)(2); and

(b) striking “Federal Emergency Management Agency” in section 1(a)(2).

Sec. 44. Executive Order 12555 of November 15, 1985 (“Protection of Cultural Property”), as amended, is further amended by:

(a) striking “the Secretary of the Treasury” in sections 1, 2, and 3, and inserting “the Secretary of Homeland Security” in lieu thereof; and

(b) striking “The Department of the Treasury” in the heading of section 3 and inserting “The Department of Homeland Security” in lieu thereof.

Sec. 45. Executive Order 12501 of January 28, 1985 (“Arctic Research”), is amended by:

(a) inserting “(i) Department of Homeland Security;” after “(h) Department of Health and Human Services;” in section 8; and

(b) relettering the subsequent subsections in section 8 appropriately.

Sec. 46. Executive Order 12472 of April 3, 1984 (“Assignment of National Security and Emergency Preparedness Telecommunications Functions”), is amended by:

(a) inserting “the Homeland Security Council,” after “National Security Council,” in sections 1(b), 1(e)(4), 1(f)(3), and 2(c)(4);

(b) striking “The Secretary of Defense” in section 1(e) and inserting “The Secretary of Homeland Security” in lieu thereof;

(c) striking “Federal Emergency Management Agency” in sections 1(e)(3) and 3(j) and inserting “Department of Homeland Security” in lieu thereof;

(d) inserting “, in consultation with the Homeland Security Council,” after “National Security Council” in section 2(b)(1);

(e) inserting “, the Homeland Security Council,” after “National Security Council” in sections 2(d) and 2(e);

(f) striking “the Director of the Federal Emergency Management Agency” in section 2(d)(1) and inserting “the Secretary of Homeland Security” in lieu thereof;

(g) striking “Federal Emergency Management Agency. The Director of the Federal Emergency Management Agency shall:” in section 3(b) and inserting “Department of Homeland Security. The Secretary of Homeland Security shall:” in lieu thereof; and

(h) adding at the end of section 3(d) the following new paragraph: “(3) Nothing in this order shall be construed to impair or otherwise affect the authority of the Secretary of Defense with respect to the Department of Defense, including the chain of command for the armed forces of the United States under section 162(b) of title 10, United States Code, and the authority of the Secretary of Defense with respect to the Department of Defense under section 113(b) of that title.”.

Sec. 47. Executive Order 12382 of September 13, 1982 (“President's National Security Telecommunications Advisory Committee”), as amended, is further amended by:

(a) inserting “through the Secretary of Homeland Security,” after “the President,” in sections 2(a) and 2(b);

(b) striking “and to the Secretary of Defense” in section 2(e) and inserting “, through the Secretary of Homeland Security,” in lieu thereof; and

(c) striking “the Secretary of Defense” in sections 3(c) and 4(a) and inserting “the Secretary of Homeland Security” in lieu thereof.

Sec. 48. Executive Order 12341 of January 21, 1982 (“Cuban and Haitian Entrants”), is amended by:

(a) striking “The Attorney General” in section 2 and inserting “The Secretary of Homeland Security” in lieu thereof; and

(b) striking “the Attorney General” in section 2 and inserting “the Secretary of Homeland Security” in lieu thereof.

Sec. 49. Executive Order 12208 of April 15, 1980 (“Consultations on the Admission of Refugees”), as amended, is further amended by:

(a) striking “the following functions: (a) To” in section 1-101 and inserting “to” in lieu thereof;

(b) striking “the Attorney General” in section 1-101(a) and inserting “the Secretary of Homeland Security” in lieu thereof;

(c) striking sections 1-101(b) and 1-102; and

(d) redesignating sections 1-103 and 1-104 as sections 1-102 and 1-103, respectively.

Sec. 50. Executive Order 12188 of January 2, 1980 (“International Trade Functions”), as amended, is further amended by:

(a) inserting “(12) The Secretary of Homeland Security” after “(11) The Secretary of Energy” in section 1-102(b); and

(b) renumbering the subsequent subsections in section 1-102(b) appropriately.

Sec. 51. Executive Order 12160 of September 26, 1979 (“Providing for Enhancement and Coordination of Federal Consumer Programs”), as amended, is further amended by:

(a) inserting “(m) Department of Homeland Security.” after “(l) Department of the Treasury.” in section 1-102;

(b) striking “(s) Federal Emergency Management Agency.” in section 1-102; and

(c) relettering the subsequent subsections in section 1-102 appropriately.

Sec. 52. Executive Order 12148 of July 20, 1979 (“Federal Emergency Management”), as amended, is further amended by:

(a) striking “the Federal Emergency Management Agency” whenever it appears and inserting “the Department of Homeland Security” in lieu thereof; and

(b) striking “the Director of the Federal Emergency Management Agency” wherever it appears and inserting “the Secretary of Homeland Security” in lieu thereof.

Sec. 53. Executive Order 12146 of July 18, 1979 (“Management of Federal Legal Resources”), as amended, is further amended by:

(a) striking “15” in section 1-101 and inserting “16” in lieu thereof;

(b) inserting “(n) The Department of Homeland Security.” after “(m) The Department of the Treasury.” in section 1-102; and

(c) relettering the subsequent subsections in section 1-102 appropriately.

Sec. 54. Executive Order 12002 of July 7, 1977 (“Administration of Export Controls”), as amended, is further amended by inserting “, the Secretary of Homeland Security,” after “The Secretary of Energy” in section 3.

Sec. 55. Executive Order 11965 of January 19, 1977 (“Establishing the Humanitarian Service Medal”), is amended by striking “the Secretary of Transportation” wherever it appears in sections 1, 2, and 4, and inserting “the Secretary of Homeland Security” in lieu thereof.

Sec. 56. Executive Order 11926 of July 19, 1976 (“The Vice Presidential Service Badge”), is amended by striking “the Secretary of Transportation” in section 2 and inserting “the Secretary of Homeland Security” in lieu thereof.

Sec. 57. Executive Order 11858 of May 7, 1975 (“Foreign Investment in the United States”), as amended, is further amended by:

(a) inserting “(8) The Secretary of Homeland Security.” after “(7) The Attorney General.” in section 1(a); and

(b) redesignating subsection (8) as subsection (9) in section 1(a).

Sec. 58. Executive Order 11800 of August 17, 1974 (“Delegating Certain Authority Vested in the President by the Aviation Career Incentive Act of 1974”), as amended, is further amended by striking “the Secretary of Transportation” in section 1 and inserting “the Secretary of Homeland Security” in lieu thereof.

Sec. 59. Executive Order 11645 of February 8, 1972 (“Authority of the Secretary of Transportation to Prescribe Certain Regulations Relating to Coast Guard Housing”), is amended by striking “the Secretary of Transportation” in the title and in sections 1 and 2 and inserting “the Secretary of Homeland Security” in lieu thereof.

Sec. 60. Executive Order 11623 of October 12, 1971 (“Delegating to the Director of Selective Service Authority to Issue Rules and Regulations under the Military Selective Service Act”), as amended, is further amended by:

(a) striking “the Secretary of Transportation” in section 2(a) and inserting “the Secretary of Homeland Security” in lieu thereof; and

(b) striking “the Department of Transportation” in section 2(a) and inserting “the Department of Homeland Security” in lieu thereof.

Sec. 61. Executive Order 11448 of January 16, 1969 (“Establishing the Meritorious Service Medal”), as amended, is further amended by striking “the Secretary of Transportation” in section 1 and inserting “the Secretary of Homeland Security” in lieu thereof.

Sec. 62. Executive Order 11446 of January 16, 1969 (“Authorizing the Acceptance of Service Medals and Ribbons from Multilateral Organizations Other Than the United Nations”), is amended by striking “the Secretary of Transportation” and inserting “the Secretary of Homeland Security” in lieu thereof.

Sec. 63. Executive Order 11438 of December 3, 1968 (“Prescribing Procedures Governing Interdepartmental Cash Awards to the Members of the Armed Forces”), as amended, is further amended by:

(a) striking “the Secretary of Transportation” in sections 1 and 2 and inserting “the Secretary of Homeland Security” in lieu thereof; and

(b) striking “the Department of Transportation” wherever it appears in sections 2 and 4 and inserting “the Department of Homeland Security” in lieu thereof.

Sec. 64. Executive Order 11366 of August 4, 1967 (“Assigning Authority to Order Certain Persons in the Ready Reserve to Active Duty”), is amended by striking “The Secretary of Transportation” in sections 2 and 3(b) and inserting “The Secretary of Homeland Security” in lieu thereof.

Sec. 65. Executive Order 11239 of July 31, 1965 (“Enforcement of the Convention for Safety of Life at Sea, 1960”), as amended, is further amended, without prejudice to section 1-106 of Executive Order 12234 of September 3, 1980 (“Enforcement of the Convention for the Safety of Life at Sea”), by:

(a) striking “the Secretary of Transportation” in sections 1, 3, and 4, and inserting “the Secretary of Homeland Security” in lieu thereof; and

(b) striking “The Secretary of Transportation” in sections 2 and 3 and inserting “The Secretary of Homeland Security” in lieu thereof.

Sec. 66. Executive Order 11231 of July 8, 1965 (“Establishing the Vietnam Service Medal”), as amended, is further amended by striking “the Secretary of Transportation” in section 1 and inserting “the Secretary of Homeland Security” in lieu thereof.

Sec. 67. Executive Order 11190 of December 29, 1964 (“Providing for the Screening of the Ready Reserve of the Armed Forces”), as amended, is further amended by striking “the Secretary of Transportation” in section 1 and inserting “the Secretary of Homeland Security” in lieu thereof.

Sec. 68. Executive Order 11139 of January 7, 1964 (“Authorizing Acceptance of the United Nations Medal and Service Ribbon”), is amended by striking “the Secretary of the Treasury” and inserting “the Secretary of Homeland Security” in lieu thereof.

Sec. 69. Executive Order 11079 of January 25, 1963 (“Providing for the Prescribing of Regulations under which Members of the Armed Forces and Others May Accept Fellowships, Scholarships or Grants”), as amended, is further amended by striking “the Secretary of Transportation” and inserting “the Secretary of Homeland Security” in lieu thereof.

Sec. 70. Executive Order 11046 of August 24, 1962 (“Authorizing Award of the Bronze Star Medal”), as amended, is further amended by striking “the Secretary of Transportation” in section 1 and inserting “the Secretary of Homeland Security” in lieu thereof.

Sec. 71. Executive Order 11016 of April 25, 1962 (“Authorizing Award of the Purple Heart”), as amended, is further amended by striking “the Secretary of Transportation” in sections 1 and 2 and inserting “the Secretary of Homeland Security” in lieu thereof.

Sec. 72. Executive Order 10977 of December 4, 1961 (“Establishing the Armed Forces Expeditionary Medal”), as amended, is further amended by striking “the Secretary of Transportation” in section 2 and inserting “the Secretary of Homeland Security” in lieu thereof.

Sec. 73. Executive Order 10789 of November 14, 1958 (“Authorizing Agencies of the Government To Exercise Certain Contracting Authority in Connection With National-Defense Functions and Prescribing Regulations Governing the Exercise of Such Authority”), as amended, is further amended by:

(a) striking “The Federal Emergency Management Agency” in paragraph 21 and inserting “Department of Homeland Security” in lieu thereof; and

(b) inserting at the end thereof the following new Part:

“Part III—Coordination with Other Authorities

25. After March 1, 2003, no executive department or agency shall exercise authority granted under paragraph 1A of this order with respect to any matter that has been, or could be, designated by the Secretary of Homeland Security as a qualified anti-terrorism technology as defined in section 865 of the Homeland Security Act of 2002, unless—

(a) in the case of the Department of Defense, the Secretary of Defense has, after consideration of the authority provided under subtitle G of title VIII of the Homeland Security Act of 2002, determined that the exercise of authority under this order is necessary for the timely and effective conduct of United States military or intelligence activities; and

(b) in the case of any other executive department or agency that has authority under this order, (i) the Secretary of Homeland Security has advised whether the use of the authority provided under subtitle G of title VIII of the Homeland Security Act of 2002 would be appropriate, and (ii) the Director of the Office and Management and Budget has approved the exercise of authority under this order.”.

Sec. 74. Executive Order 10694 of January 10, 1957 (“Authorizing the Secretaries of the Army, Navy, and Air Force to Issue Citations in the Name of the President of the United States to Military and Naval Units for Outstanding Performance in Action”), is amended by adding at the end thereof the following new section: “5. The Secretary of the Department in which the Coast Guard is operating may exercise the same authority with respect to the Coast Guard under this order as the Secretary of the Navy may exercise with respect to the Navy and the Marine Corps under this order.”.

Sec. 75. Executive Order 10637 of September 16, 1955 (“Delegating to the Secretary of the Treasury Certain Functions of the President Relating to the United States Coast Guard”), is amended by:

(a) striking “The Secretary of the Treasury” in sections 1 and 2 and inserting “The Secretary of Homeland Security” in lieu thereof;

(b) striking “the Secretary of the Treasury” in the title and in subsections 1(j), 1(k), and 5, and inserting “the Secretary of Homeland Security” in lieu thereof; and

(c) striking subsection 1(r) and redesignating subsection 1(s) as subsection 1(r).

Sec. 76. Executive Order 10631 of August 17, 1955 (“Code of Conduct for Members of the Armed Forces of the United States”), as amended, is further amended by: striking “the Secretary of Transportation” and inserting “the Secretary of Homeland Security” in lieu thereof.

Sec. 77. Executive Order 10554 of August 18, 1954 (“Delegating the Authority of the President to Prescribe Regulations Authorizing Occasions Upon Which the Uniform May Be Worn by Persons Who Have Served Honorably in the Armed Forces in Time of War”), is amended by striking “the Secretary of the Treasury” and inserting “the Secretary of Homeland Security” in lieu thereof.

Sec. 78. Executive Order 10499 of November 4, 1953 (“Delegating Functions Conferred Upon the President by Section 8 of the Uniformed Services Contingency Option Act of 1953”), as amended, is further amended by striking “the Treasury” in sections 1 and 2 and inserting “Homeland Security” in lieu thereof.

Sec. 79. Executive Order 10448 of April 22, 1953 (“Authorizing the National Defense Medal”), as amended, is further amended by striking “the Secretary of Transportation” in sections 1 and 2 and inserting “the Secretary of Homeland Security” in lieu thereof.

Sec. 80. Executive Order 10271 of July 7, 1951 (“Delegating the Authority of the President to Order Members and Units of Reserve Components of the Armed Forces into Active Federal service”), is amended by striking “the Secretary of the Treasury” and inserting “the Secretary of Homeland Security” in lieu thereof.

Sec. 81. Executive Order 10179 of November 8, 1950 (“Establishing the Korean Service Medal”), as amended, is further amended by striking “the Secretary of the Treasury” in sections 1 and 2 and inserting “the Secretary of Homeland Security” in lieu thereof.

Sec. 82. Executive Order 10163 of September 25, 1950 (“The Armed Forces Reserve Medal”), as amended, is further amended by striking “the Secretary of the Treasury” in sections 2 and 7 and inserting “the Secretary of Homeland Security” in lieu thereof.

Sec. 83. Executive Order 10113 of February 24, 1950 (“Delegating the Authority of the President to Prescribe Clothing Allowances, and Cash Allowances in lieu thereof, for Enlisted Men in the Armed Forces”), as amended, is further amended by striking “the Secretary of the Treasury” in sections 1 and 2 and inserting “the Secretary of Homeland Security” in lieu thereof.

Sec. 84. Executive Order 4601 of March 1, 1927 (“Distinguished Flying Cross”), as amended, is further amended by:

(a) striking “The Secretary of War, the Secretary of the Navy,” in sections 2 and 12 and inserting “The Secretary of Defense” in lieu thereof; and

(b) striking “the Secretary of the Treasury” in sections 2 and 12 and inserting “the Secretary of Homeland Security” in lieu thereof.

Sec. 85. Designation as a Defense Agency of the United States.

I hereby designate the Department of Homeland Security as a defense agency of the United States for the purposes of chapter 17 of title 35 of the United States Code.

Sec. 86. Exception from the Provisions of the Government Employees Training Act.

Those elements of the Department of Homeland Security that are supervised by the Under Secretary of Homeland Security for Information Analysis and Infrastructure Protection through the Department's Assistant Secretary for Information Analysis are, pursuant to section 4102(b)(1) of title 5, United States Code, and in the public interest, excepted from the following provisions of the Government Employees Training Act as codified in title 5: sections 4103(a)(1), 4108, 4115, 4117, and 4118, and that part of 4109(a) that provides “under the regulations prescribed under section 4118(a)(8) of this title and”.

Sec. 87. Functions of Certain Officials in the Coast Guard.

The Commandant and the Assistant Commandant for Intelligence of the Coast Guard each shall be considered a “Senior Official of the Intelligence Community” for purposes of Executive Order 12333 of December 4, 1981, and all other relevant authorities.

Sec. 88. Order of Succession.

Subject to the provisions of subsection (b) of this section, the officers named in subsection (a) of this section, in the order listed, shall act as, and perform the functions and duties of, the office of Secretary of Homeland Security (“Secretary”) during any period in which the Secretary has died, resigned, or otherwise become unable to perform the functions and duties of the office of Secretary.

(a) Order of Succession.

(i) Deputy Secretary of Homeland Security;

(ii) Under Secretary for Border and Transportation Security;

(iii) Under Secretary for Emergency Preparedness and Response;

(iv) Under Secretary for Information Analysis and Infrastructure Protection;

(v) Under Secretary for Management;

(vi) Under Secretary for Science and Technology;

(vii) General Counsel; and

(viii) Assistant Secretaries in the Department in the order of their date of appointment as such.

(b) Exceptions.

(i) No individual who is serving in an office listed in subsection (a) in an acting capacity shall act as Secretary pursuant to this section.

(ii) Notwithstanding the provisions of this section, the President retains discretion, to the extent permitted by the Federal Vacancies Reform Act of 1998, 5 U.S.C. 3345 et seq., to depart from this order in designating an acting Secretary.

Sec. 89. Savings Provision.

Except as otherwise specifically provided above or in Executive Order 13284 of January 23, 2003 (“Amendment of Executive Orders, and Other Actions, in Connection With the Establishment of the Department of Homeland Security”), references in any prior Executive Order relating to an agency or an agency component that is transferred to the Department of Homeland Security (“the Department”), or relating to a function that is transferred to the Secretary of Homeland Security, shall be deemed to refer, as appropriate, to the Department or its officers, employees, agents, organizational units, or functions.

Sec. 90. Nothing in this order shall be construed to impair or otherwise affect the authority of the Secretary of Defense with respect to the Department of Defense, including the chain of command for the armed forces of the United States under section 162(b) of title 10, United States Code, and the authority of the Secretary of Defense with respect to the Department of Defense under section 113(b) of that title.

Sec. 91. Nothing in this order shall be construed to limit or restrict the authorities of the Central Intelligence Agency and the Director of Central Intelligence pursuant to the National Security Act of 1947 and the CIA Act of 1949.

Sec. 92. This order shall become effective on March 1, 2003.

Sec. 93. This order does not create any right or benefit, substantive or procedural, enforceable at law or in equity, against the United States, its departments, agencies, or other entities, its officers or employees, or any other person.

B

THE WHITE HOUSE,

February 28, 2003.

[FR Doc. 03-5343

Filed 3-4-03; 8:45 am]

Billing code 3195-01-P